DEPARTMENT OF TRANSPORTATION

Surface Transportation Board

Notice of Public Information Collection Submitted to OMB for Review

AGENCY: Surface Transportation Board, DOT.

ACTION: Extension of a currently approved collection.

SUMMARY: The Surface Transportation Board has submitted to the Office of Management and Budget for review and approval the following proposal for collection of information as required by the Paperwork Reduction Act of 1995, Public Law 104-13 (44 U.S.C. Chapter 35).

Title: Financial Assistance of Railroad Lines.

OMB Form Number: 2140-0003.

No. of Respondents: 11.

Total Burden Hours: 350.

DATES: Persons wishing to comment on this information collection should submit comments by July 31, 2000.

ADDRESSES: Direct all comments to Case Control, Surface Transportation Board, Room 705, 1925 K Street, NW., Washington, DC 20423. When submitting comments refer to the OMB number and title of the information collection.

FOR FURTHER INFORMATION CONTACT: Charles L. Renninger, 202 565-1631. Requests for copies of the information collection may be obtained by contacting Ellen R. Keys (202) 565-1654.

SUPPLEMENTARY INFORMATION: The Surface Transportation Board is, by statute, responsible for the economic regulation of surface transportation carriers operating in interstate and foreign commerce. The ICC Termination Act of 1995, Public Law 104-88, 109 Stat. 803 (1995), which took effect on January 1, 1996 abolished the Interstate Commerce Commission and transferred the responsibility for regulating rail transportation, including the proposed abandonment and discontinuance of rail lines, to the Surface Transportation Board. The Board needs, in each abandonment exemption proceeding, a detailed map of the rail line, depicting its relation to other rail lines, roads, water routes, and population centers. The Board will use the information concerning the value of the property involved to set the fair market value of the property and conditions of sale or the terms of the subsidy. Interested parties have a statutory right to file offers of financial assistance. The Board has the Congressionally mandated responsibility to handle offers of financial assistance. The consequences of failure to collect data related to offers of financial assistance will be an inability to fullfill responsibilities under 49 U.S.C. 10904.

Dated: June 22, 2000.
Vernon A. Williams,
Secretary.

[FR Doc. 00-16706 Filed 6-30-00; 8:45 am]

BILLING CODE 4915-00-P